DEPARTMENT OF ENERGY

Office of Energy Efficiency and Renewable Energy

10 CFR Part 430

[Docket No. EE-2006-STD-0129]

RIN 1904-AA90

Energy Conservation Program for Consumer Products: Energy Conservation Standards for Residential Water Heaters, Direct Heating Equipment, and Pool Heaters

AGENCY: Office of Energy Efficiency and Renewable Energy, Department of Energy.

ACTION: Notice of public meeting and availability of the Framework Document.

SUMMARY: The Department of Energy (DOE) is commencing a rulemaking to amend the existing energy conservation standards for residential water heaters, direct heating equipment, and pool heaters. DOE will hold an informal public meeting to present its proposed methodologies for conducting this rulemaking, discuss issues relevant to the rulemaking proceeding, and initiate stakeholder interaction and the data collection process. DOE is also interested in identifying information that will assist it in establishing amended standards for these products. DOE encourages written comments on these subjects. This effort is the result of provisions in the Energy Policy and Conservation Act (EPCA) directing the Secretary of Energy (“Secretary”) to publish rules to determine whether the energy conservation standards for such products should be amended. To inform stakeholders and to facilitate this process, DOE has prepared a Framework Document, a draft of which is available at http://www.eere.doe.gov/building/appliance_standards.

DATES: DOE will hold a public meeting on January 16, 2007, from 9 a.m. to 5 p.m. EDT in Washington, DC. Any person requesting to speak at the public meeting should submit a request to speak before 4 p.m., January 5, 2007. DOE must receive a signed original and an electronic copy of statements to be given at the public meeting before 4 p.m., January 5, 2007. Written comments on the Framework Document are welcome and encouraged and should be submitted by January 30, 2007.

ADDRESSES: DOE will hold the public meeting at the U.S. Department of Energy, Forrestal Building, Room 1E-245, 1000 Independence Avenue, SW., Washington, DC 20585-0121. (Please note that foreign nationals participating in the public meeting are subject to advance security screening procedures. If a foreign national wishes to participate in the public meeting, please inform DOE of this fact as soon as possible by contacting Ms. Brenda Edwards-Jones at (202) 586-2945, so that the necessary procedures can be completed.)

Stakeholders may submit comments, identified by docket number EE-2006-STD-0129 and/or RIN number 1904-AA90, by any of the following methods:

• Federal eRulemaking Portal: http://www.regulations.gov. Follow the instructions for submitting comments.

• E-mail: ResWaterDirectPoolHtrs@ee.doe.gov. Include EE-2006-STD-0129 and/or RIN 1904-AA90 in the subject line of the message.

• Mail: Ms. Brenda Edwards-Jones, U.S. Department of Energy, Building Technologies Program, Mailstop EE-2J, Framework Document for Residential Water Heaters, Direct Heating Equipment, and Pool Heaters, EE-2006-STD-0129 and/or 1904-AA90, 1000 Independence Avenue, SW., Washington, DC 20585-0121. Please submit one signed paper original.

• Hand Delivery/Courier: Ms. Brenda Edwards-Jones, U.S. Department of Energy, Building Technologies Program, Room 1J-018, 1000 Independence Avenue, SW., Washington, DC 20585-0121. Telephone: (202) 586-2945. Please submit one signed paper original.

Instructions: All submissions received must include the agency name and docket number or Regulatory Information Number (RIN) for this rulemaking.

Docket: For access to the docket to read background documents or comments received, go to the U.S. Department of Energy, Forrestal Building, Room 1J-018 (Resource Room of the Building Technologies Program), 1000 Independence Avenue, SW., Washington, DC, (202) 586-9127, between 9 a.m. and 4 p.m., Monday through Friday, except Federal holidays. Please call Ms. Brenda Edwards-Jones at the above telephone number for additional information regarding the Resource Room. Please note that DOE's Freedom of Information Reading Room (formerly Room 1E-190 at the Forrestal Building) is no longer housing rulemaking materials.

FOR FURTHER INFORMATION CONTACT: Mohammed Khan, U.S. Department of Energy, Office of Energy Efficiency and Renewable Energy, Building Technologies, EE-2J, 1000 Independence Avenue, SW., Washington, DC 20585-0121 (202) 586-7892. E-mail: Mohammed.Khan@ee.doe.gov. Francine Pinto, U.S. Department of Energy, Office of General Counsel, GC-72, 1000 Independence Avenue, SW., Washington, DC 20585-0121, (202) 586-9507. E-mail: Francine.Pinto@hq.doe.gov.

SUPPLEMENTARY INFORMATION: Part B of Title III of EPCA, 42 U.S.C. 6291 et seq., establishes an energy conservation program for consumer products and authorizes DOE to adopt test procedures and energy conservation standards for certain of these products. Amendments to EPCA in the National Appliance Energy Conservation Act of 1987 (NAECA) (Pub. L. 100-12 (1987)) added several products to this program, including pool heaters. These amendments also established energy conservation standards for residential water heaters, direct heating equipment, and pool heaters—the products that are the focus of this document—as well as requirements for determining whether these standards should be amended. (42 U.S.C. 6295(e))

Specifically, EPCA requires that DOE conduct two cycles of rulemakings to determine whether to amend the standards for these products. (42 U.S.C. 6295 (e)(1)-(4)) EPCA directs the Secretary of Energy to publish a final rule by January 1, 1992 to determine whether the standards applicable to products manufactured on or after January 1, 1995 should be amended (42 U.S.C. 6295(e)(4)(A)), and to publish a second such rule by January 1, 2000 for products manufactured on or after January 1, 2005. (42 U.S.C. 6295(e)(4)(B)) On February 7, 1989 and October 17, 1990, DOE published in the Federal Register final rules codifying the minimum efficiency levels prescribed by NAECA, and thereby established the first set of energy conservation standards for residential water heaters, direct water heating equipment, and pool heaters. 54 FR 6097 and 55 FR 42163.

The energy conservation standards established by NAECA for residential water heaters require that each gas, oil, and electric water heater manufactured on or after January 1, 1990, meet a minimum energy factor based on the water heater's rated storage volume in gallons. (42 U.S.C. 6295(e)(1)) On January 17, 2001, DOE published a final rule (the January 2001 final rule) in which it increased the required minimum efficiency levels for gas and electric storage water heaters (except for tabletop models), but declined to amend the energy conservation standards for oil storage water heaters. 66 FR 4474. DOE also established separate product classes for tabletop water heaters, instantaneous gas-fired water heaters, and instantaneous electric water heaters, but let the existing EPCA efficiency levels in place for these types of equipment. 66 FR 4474. Pursuant to 42 U.S.C. 6295(e)(4)(A), the January 2001 final rule amended the DOE regulations to specify a minimum energy factor for gas-fired storage-type, oil-fired storage-type, electric storage-type, gas-fired instantaneous, electric instantaneous, and tabletop water heaters, based on rated storage volume and became effective on January 20, 2004. 66 FR 4474.

Furthermore, EPCA requires that pool heaters manufactured on or after January 1, 1990, meet a thermal efficiency standard of not less than 78 percent. (42 U.S.C. 6295(e)(2)) In addition, the energy conservation standards established by EPCA at 42 U.S.C. 6295(e)(3) specify a minimum annual fuel utilization efficiency (AFUE) for sixteen product classes of direct heating equipment, as shown in Section 430.32(i) of Part 430, Title 10, Code of Federal Regulations.

DOE initially considered amending the energy conservation standards for pool heaters and direct heating equipment as part of an eight-product standards rulemaking. DOE issued a notice of proposed rulemaking (NOPR) on March 4, 1994 to amend the energy conservation standards for pool heaters and direct heating equipment, as well as other consumer products. 59 FR 10464. The Department of Interior and Related Agencies Appropriations Act for Fiscal Year 1996 (Pub. L. 104-134) included a moratorium on proposing or issuing final rules for appliance standards rulemakings for the remainder of Fiscal Year 1996, which caused DOE to suspend action on the 1994 proposed standards. Currently, the first set of EPCA efficiency levels for pool heaters and direct heating equipment remain in place.

To begin today's rulemaking process, DOE has prepared a Rulemaking Framework Document for Residential Water Heaters, Direct Heating Equipment, and Pool Heaters (Framework Document) to present the issues and explain the analyses and process it anticipates using to amend the energy conservation standards for residential water heaters, direct heating equipment, and pool heaters. The focus of the public meeting will be to discuss the analyses and issues identified in the Framework Document. During DOE's presentation to stakeholders, DOE will discuss each item listed in the Framework Document as an issue for comment. DOE will also make a brief presentation on the rulemaking process for these products. DOE encourages interested persons who wish to participate in the public meeting to obtain the Framework Document and be prepared to discuss its contents. A copy of the draft Framework Document is available at http://www.eere.doe.gov/buildings/appliance_standards. However, public meeting participants need not limit their discussion to the topics in the Framework Document. DOE is also interested in receiving comments concerning other relevant issues that participants believe would affect energy conservation standards for residential water heaters, direct heating equipment, and pool heaters. DOE also welcomes all interested parties, whether or not they participate in the public meeting, to submit in writing by January 30, 2007, comments and information on the matters addressed in the Framework Document and on other matters relevant to consideration of standards for residential water heaters, direct heating equipment, and pool heaters.

The public meeting will be conducted in an informal, conference style. A court reporter will be present to prepare a transcript of the meeting. There shall be no discussion of proprietary information, costs or prices, market shares, or other commercial matters regulated by the U.S. antitrust laws.

The public meeting will be conducted in an informal, conference style. A court reporter will be present to prepare a transcript of the meeting. There shall be no discussion of proprietary information, costs or prices, market shares, or other commercial matters regulated by the U.S. antitrust laws.

After the public meeting and the expiration of the period for submitting written statements, DOE will begin collecting data, conducting the analyses as discussed in the Framework Document and at the public meeting, and reviewing the comments received.

Anyone who would like to participate in the public meeting, receive meeting materials, or be added to the DOE mailing list to receive future notices and information regarding residential water heaters, direct heating equipment, and pool heaters, should contact Ms. Brenda Edwards-Jones at (202) 586-2945.

Issued in Washington, DC, on November 13, 2006.
Alexander A. Karsner,
Assistant Secretary, Energy Efficiency and Renewable Energy.

[FR Doc. 06-9372 Filed 11-22-06; 8:45 am]

BILLING CODE 6450-01-M